DEPARTMENT OF TRANSPORTATION

Federal Transit Administration

Limitation on Claims Against Proposed Public Transportation Project

AGENCY: Federal Transit Administration (FTA), DOT.

ACTION: Notice.

SUMMARY: This notice announces final environmental actions taken by the Federal Transit Administration (FTA) for a project in Chapel Hill and Durham, NC. The purpose of this notice is to announce publicly the environmental decisions by FTA on the subject project and to activate the limitation on any claims that may challenge these final environmental actions.

DATES: By this notice, FTA is advising the public of final agency actions subject to Section 139(l) of Title 23, United States Code (U.S.C.). A claim seeking judicial review of FTA actions announced herein for the listed public transportation project will be barred unless the claim is filed on or before May 22, 2017.

FOR FURTHER INFORMATION CONTACT: Nancy-Ellen Zusman, Assistant Chief Counsel, Office of Chief Counsel, (312) 353-2577 or Meghan Kelley, Environmental Protection Specialist, Office of Environmental Programs, (202) 366-6098. FTA is located at 1200 New Jersey Avenue SE., Washington, DC 20590. Office hours are from 9:00 a.m. to 5:00 p.m., Monday through Friday, except Federal holidays.

SUPPLEMENTARY INFORMATION: Notice is hereby given that FTA has taken final agency actions by issuing certain approvals for the public transportation project listed below. The actions on the project, as well as the laws under which such actions were taken, are described in the documentation issued in connection with the project to comply with the National Environmental Policy Act (NEPA) and in other documents in the FTA administrative record for the project. Interested parties may contact either the project sponsor or the relevant FTA Regional Office for more information. Contact information for FTA's Regional Offices may be found at https://www.fta.dot.gov.

This notice applies to all FTA decisions on the listed project as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The project and actions that are the subject of this notice are:

Project name and location: Durham-Orange Light Rail Transit Project North Carolina Central University Station Refinement, Chapel Hill and Durham, NC. Project sponsor: Research Triangle Regional Public Transportation Authority d/b/a Triangle Transit Authority d/b/a GoTriangle. Project description: The proposed project evaluates the inclusion of the North Carolina Central University Station Refinement into the Durham-Orange Light Rail Transit (D-O LRT) Project. The D-O LRT Project was originally evaluated in a combined Final Environmental Impact Statement/Record of Decision, dated February 11, 2016. The proposed project would extend the alignment of the D-O LRT Project 0.7 miles south of a reconfigured Alston Avenue Station, over Durham Freeway/North Carolina Highway 147, and within the Alston Avenue median to a new station that would become the eastern terminus. The new station would be located just north of Lawson Street near the northeast corner of the North Carolina Central University campus. Nothing in this notice affects FTA's previous decisions, or notice thereof, for the D-O LRT Project. More specifically, the statute of limitations for the approvals documented in the D-O LRT Project's February 11, 2016 combined Final Environmental Impact Statement/Record of Decision expired on August 1, 2016, as noticed in the Federal Register on March 2, 2016 (81 FR 10952). This notice only applies to the discrete actions taken by FTA at this time, as described below. Final agency actions: No use determination of Section 4(f) resources; Section 106 finding of no adverse effect; and an amended Record of Decision, dated December 14, 2016. Supporting Documentation: Supplemental Environmental Assessment, dated November 2016.

Lucy Garliauskas,
Associate Administrator Planning and Environment.

[FR Doc. 2016-30703 Filed 12-20-16; 8:45 am]

BILLING CODE P